FEDERAL COMMUNICATIONS COMMISSION

47 CFR Part 1

[WT Docket No. 19-250, WC Docket No. 17-84, RM-11849; DA 19-913]

Comment Sought on WIA Petitions for Declaratory Ruling and Rulemaking and CTIA Petition for Declaratory Ruling

AGENCY: Federal Communications Commission.

ACTION: Advance notice of proposed rulemaking.

SUMMARY: In this document, the Wireless Telecommunications Bureau (WTB) and Wireline Competition Bureau (WCB) seek comment on a Petition for Rulemaking and a Petition for Declaratory Ruling filed by the Wireless Infrastructure Association (WIA), and a Petition for Declaratory Ruling filed by CTIA.

DATES: Interested parties may file comments on or before October 15, 2019; and reply comments on or before October 30, 2019.

ADDRESSES: You may submit comments and reply comments on or before the dates indicated in the DATES section above. Comments may be filed using the Commission's Electronic Comment Filing System (ECFS). See Electronic Filing of Documents in Rulemaking Proceedings, 63 FR 24121 (1998). All filings must refer to RM-11849 and WT Docket No. 19-250, and if addressing issues relating to Section 224 of the Communications Act, WC Docket 17-84.

Electronic Filers: Comments may be filed electronically using the internet by accessing the ECFS: http://apps.fcc.gov/ecfs/.

Paper Filers: Parties who choose to file by paper must file an original and one copy of each filing.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th Street SW, Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9050 Junction Drive, Annapolis Junction,

MD 20701.

U.S. Postal Service first-class, Express, and Priority mail must be addressed to 445 12th Street SW, Washington, DC 20554.

People with Disabilities. To request materials in accessible formats for people with disabilities (braille, large print, electronic files, audio format), send an email to fcc504@fcc.gov or call the Consumer & Governmental Affairs Bureau at 202-418-0530 (voice), 202-418-0432 (tty). For additional information, see the SUPPLEMENTARY INFORMATION section of this document.

FOR FURTHER INFORMATION CONTACT: For further information on this proceeding, contact David Sieradzki, Senior Counsel, Competition and Infrastructure Policy Division, WTB at (202) 418-1368 or by email to David.Sieradzki@fcc.gov or Mike Ray, Attorney Advisor, Competition Policy Division, WCB, at (202) 418-0357 or michael.ray@fcc.gov.

SUPPLEMENTARY INFORMATION: This is a summary of the Public Notice released on September 13, 2019 (DA 19-913). The full text of the Public Notice is available for public inspection and copying during business hours in the FCC Reference Information Center, Portals II, 445 12th Street SW, Room CY-A257, Washington, DC 20554. It also may be purchased from the Commission's duplicating contractor at Portals II, 445 12th Street SW, Room CY-B402, Washington, DC 20554; the contractor's website, http://www.bcpiweb.com; or by calling (800) 378-3160, facsimile (202) 488-5563, or email FCC@BCPIWEB.com. Additionally, the complete item is available on the Federal Communications Commission's website at http://www.fcc.gov.

On August 27, 2019, the WIA filed a Petition for Rulemaking and a Petition for Declaratory Ruling. On September 6, 2019, CTIA filed a Petition for Declaratory Ruling. The petition for rulemaking requests additional rules to implement Section 6409 of the Spectrum Act, 47 U.S.C. 1455. The petitions for declaratory ruling request that the Commission clarify its rules implementing Section 6409 and Sections 1455 and 224 of the Communications Act. 47 U.S.C. 1455. WIA's Petition for Rulemaking asks the Commission to amend our rules to reflect that collocations requiring an expansion of the current site—within 30 feet of a tower site—qualify for relief under Section 6409(a) and to require that fees associated with eligible facilities requests under Section 6409 be cost-based. WIA's Petition for Declaratory Ruling asks the Commission to clarify (1) that Section 6409(a) and our related rules apply to all state and local authorizations; (2) when the time to decide an application begins to run; (3) what constitutes a substantial change under Section 6409(a); (4) that “conditional” approvals by localities violate Section 6409(a); and (5) that localities may not establish processes or impose conditions that effectively defeat or reduce the protections afforded under Section 6409(a).

CTIA's Petition for Declaratory Ruling asks the Commission to clarify the terms “concealment element,” “equipment cabinet,” and “base station” in our rules, and clarify that when an application is “deemed granted” under Section 6409, applicants may lawfully construct even if the siting authority has not issued construction permits. With respect to Section 224, CTIA asks the Commission to: (1) Determine that the definition of the term “pole” in Section 224 includes light poles; (2) conclude that utilities may not impose blanket prohibitions on access to certain parts of the pole; and (3) clarify that utilities may not ask attachers to accept terms and conditions that are inconsistent with the Commission's rules.

Federal Communications Commission.
Amy Brett,
Associate Chief, Competition and Infrastructure Policy Division, Wireless Telecommunications Bureau.

[FR Doc. 2019-20635 Filed 9-25-19; 8:45 am]

BILLING CODE 6712-01-P